ENVIRONMENTAL PROTECTION AGENCY

40 CFR Part 98

[EPA-HQ-OAR-2009-0923; EPA-HQ-OAR-2009-0926; EPA-HQ-OAR-2009-0927; FRL-9134-2]

RIN 2060-AP99, AP88, AQ00

Public Hearings for the Mandatory Reporting Rule for Greenhouse Gases

AGENCY: Environmental Protection Agency (EPA).

ACTION: Announcement of public hearings.

SUMMARY: The EPA is announcing two public hearings to be held for proposed rules related to mandatory reporting of greenhouse gases, which will be published separately in the Federal Register. These proposed rules would amend the Mandatory Reporting of Greenhouse Gases rule, published on October 30, 2009 by requiring reporting of greenhouse gases from additional industry source categories.

One hearing will be held in Arlington, Virginia (which is in the Washington, DC, area) on April 19, 2010. It will cover the proposed rule “Mandatory Reporting of Greenhouse Gases: Petroleum and Natural Gas Systems” and the proposed rule “Mandatory Reporting of Greenhouse Gases: Injection and Geologic Sequestration of Carbon Dioxide.” These two notices will be being published in separate notices of proposed rulemaking.

The other hearing will be held in Washington, DC, on April 20, 2010. It will cover the proposed rule “Mandatory Reporting of Greenhouse Gases: Additional Sources of Fluorinated GHGs,” which will be published in a separate notice of proposed rulemaking.

The proposed rules do not require control of greenhouse gases, rather they require only that sources above certain threshold levels monitor and report emissions and carbon dioxide injection and geologic sequestration. The signed notices of proposed rulemaking were posted on the EPA Web site prior to publication in the Federal Register, and contained the same public hearing dates presented in this announcement.

DATES: There will be two public hearings. One hearing will be held on April 19, 2010 in Arlington, VA. The other hearing will be on April 20, 2010 in Washington, DC. To obtain information about the public hearings or to register to speak at the hearings, please go to: http://www.epa.gov/climatechange/emissions/ghgrulemaking.html. Alternatively, contact Carole Cook at 202-343-9263.

ADDRESSES: The hearings will be held at the following locations:

1. Arlington: One Potomac Yard (South Building), 2777 S. Crystal Drive, Arlington, VA 22202.

2. Washington, DC: Environmental Protection Agency, 1310 L Street NW., Room 152, Washington, DC 20005.

Written comments on the proposed rules may also be submitted to EPA electronically, by mail, by facsimile, or through hand delivery/courier. Please refer to the notices of proposed rulemaking for the addresses and detailed instructions for submitting written comments.

When the proposed rules are published in the Federal Register, a complete set of documents related to the proposal will be available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the Mandatory Reporting of Greenhouse Gases rulemaking, which includes information about the public hearings and a copy of the signed proposals (which are essentially the same as the proposals that will be published) can be found at: http://www.epa.gov/climatechange/emissions/ghgrulemaking.html.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov.

SUPPLEMENTARY INFORMATION: The proposals for which EPA is holding the public hearings will be published separately in the Federal Register. Copies of the signed notices of proposed rulemaking, which are essentially the same as the proposal that will be published in the Federal Register, has been available since March 23, 2010, on the following Web site: http://www.epa.gov/climatechange/emissions/ghgrulemaking.html. The notices on the Web site contain the same public hearing dates, addresses, and registration information presented in this announcement of public hearings.

The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be received by the last day of the comment period, as specified in the notices of proposed rulemaking.

To obtain information about the public hearings or to register to speak at the hearings, please go to: http://www.epa.gov/climatechange/emissions/ghgrulemaking.html. Alternatively, contact Carole Cook at 202-343-9263.

Verbatim transcripts of the hearings and written statements will be included in the rulemaking dockets.

How Can I Get Copies Of This Document, the Proposed Rule, and Other Related Information?

The EPA has established dockets for each action under the following Docket ID Nos: EPA-HQ-OAR-2009-0923 (Petroleum and Natural Gas Systems, proposed 40 CFR part 98, subpart W), EPA-HQ-OAR-2009-0926 (Carbon Dioxide Injection and Geologic Sequestration, proposed 40 CFR part 98, subpart RR), and EPA-HQ-OAR-2009-0927 (Additional Sources of Fluorinated Greenhouse Gases, proposed 40 CFR part 98, subparts I, L, DD, QQ, and SS). The EPA has also developed a Web site for the proposed greenhouse gas reporting rule, including the notice of proposed rulemaking, at the address given above. Please refer to the notice of proposed rulemaking for detailed information on accessing information related to the proposal.

Dated: March 31, 2010.
Brian McLean,
Director, Office of Atmospheric Programs.

[FR Doc. 2010-7738 Filed 4-5-10; 8:45 am]

BILLING CODE 6560-50-P